ENVIRONMENTAL PROTECTION AGENCY

[FRL-7455-6]

Meeting of the Ozone Transport Commission for the Northeast United States

AGENCY: Environmental Protection Agency.

ACTION: Notice of meeting.

SUMMARY: The United States Environmental Protection Agency is announcing the 2003 Annual Meeting of the Ozone Transport Commission (OTC). This meeting is for the OTC to deal with appropriate matters within the Ozone Transport Region in the Northeast and Mid-Atlantic States, as provided for under the Clean Air Act Amendments of 1990. This meeting is not subject to the provisions of the Federal Advisory Committee Act, Public Law 92-463, as amended.

DATES: The meeting will be held on March 4, 2003 starting at 10 a.m. (EST).

ADDRESSES: The Marriott Hotel at Metro Center, 775 Twelfth (12th) Street NW., Washington, DC.

FOR FURTHER INFORMATION CONTACT: Judith M. Katz, U.S. Environmental Protection Agency, Region III, 1650 Arch Street, Philadelphia, PA 19103; (215) 814-2100.

For Documents and Press Inquiries Contact: Ozone Transport Commission, 444 North Capitol Street NW., Suite 638, Washington, DC 20001; (202) 508-3840; e-mail: ozone@sso.org; Web site: http://www.sso.org/otc.

SUPPLEMENTARY INFORMATION: The Clean Air Act Amendments of 1990 contain at Section 184 provisions for the “Control of Interstate Ozone Air Pollution.” Section 184(a) establishes an “Ozone Transport Region” (OTR) comprised of the States of Connecticut, Delaware, Maine, Maryland, Massachusetts, New Hampshire, New Jersey, New York, Pennsylvania, Rhode Island, Vermont, parts of Virginia and the District of Columbia. The Assistant Administrator for Air and Radiation of the Environmental Protection Agency convened the first meeting of the commission in New York City on May 7, 1991. The purpose of the Ozone Transport Commission is to deal with ground level ozone formation, transport, and control within the OTR.

The purpose of this notice is to announce that this Commission will meet on March 4, 2003. The meeting will be held at the address noted earlier in this notice.

Section 176A(b)(2) of the Clean Air Act Amendments of 1990 specifies that the meetings of the Ozone Transport Commission are not subject to the provisions of the Federal Advisory Committee Act. This meeting will be open to the public as space permits.

Type of Meeting: Open.

AGENDA: Copies of the final agenda will be available from the OTC office (202) 508-3840 (by e-mail: ozone@sso.org or via our Web site at http://www.sso.org/otc) by close of business, Tuesday, February 25, 2003. The purpose of this meeting is to discuss ways in which OTC states can meet their statutory and regulatory responsibilities under the Clean Air Act. Special emphasis will be given to stationary and mobile source control measures to reduce precursors of ground-level ozone and next steps to reduce ground-level ozone in the context of a multi-pollutant emission reduction program. The OTC is also expected to address issues related to the transport of ozone into its region, and to discuss potential regional emission control measures.

Dated: Feburary 14, 2003.
Donald S. Welsh,
Regional Administrator, EPA Region III.

[FR Doc. 03-4519 Filed 2-25-03; 8:45 am]

BILLING CODE 6560-50-P